DEPARTMENT OF STATE

[Public Notice: 10632]

Determination by the Secretary of State Relating to Iran Sanctions

The Secretary of State determined on November 3, 2018, pursuant to Section 1245(d)(4)(D) of the National Defense Authorization Act for Fiscal Year 2012 (NDAA), (Pub. L. 112-81), as amended, that as of November 3, 2018, each of the following jurisdictions have significantly reduced the volume of their crude oil purchases from Iran: China, Greece, India, Italy, Japan, South Korea, Taiwan, and Turkey.

Kent D. Logsdon,
Principal Deputy Assistant Secretary, Bureau of Energy Resources, U.S. Department of State.

[FR Doc. 2018-28093 Filed 12-26-18; 8:45 am]

BILLING CODE 4710-AE-P